DEPARTMENT OF ENERGY

Federal Energy Regulatory Commission

Notice of Commission Staff Attendance at MISO Meetings

The Federal Energy Regulatory Commission hereby gives notice that members of the Commission and Commission staff may attend the following MISO-related meetings:

Order 1000 Right of First Refusal (ROFR) Task Team, March 23, 2012, 9 a.m.-3 p.m. ET.

MISO Headquarters, 720 City Center Drive, Carmel, IN 46032.

Further information may be found at www.midwestiso.org.

The above-referenced meetings are open to the public.

The discussions at each of the meetings described above may address matters at issue in the following proceedings:

Docket No. RM01-5, Electronic Tariff Filings.

Docket Nos. ER04-691, EL04-104 and ER04-106, et al., Midwest Independent Transmission System Operator, Inc., et al.

Docket No. ER05-6, et al., Midwest Independent Transmission System Operator, Inc., et al.

Docket No. ER05-636, Midwest Independent Transmission System Operator, Inc.

Order No. 890, Preventing Undue Discrimination and Preference in Transmission Service.

Docket Nos. ER06-18, et al., Midwest Independent Transmission System Operator, Inc.

Docket No. ER06-56, Midwest Independent Transmission System Operator, Inc.

Docket No. ER06-192, Midwest Independent Transmission System Operator, Inc.

Order Nos. 693 and 693-A, Mandatory Reliability Standards for Bulk-Power System.

Docket No. AD07-12, Reliability Standard Compliance and Enforcement in Regions with Independent System Operators and Regional Transmission Organizations.

Docket No. ER07-1182, Midwest Independent Transmission System Operator, Inc.

Docket No. ER07-1372, Midwest Independent Transmission System Operator, Inc.

Docket Nos. RR07-2, et al., Delegation Agreement Between the North American Electric Reliability Corporation and Midwest Reliability Organization, et al.

Docket No. EL08-32, Central Minnesota Municipal Power Agency and Midwest Municipal Transmission Group, Inc.

Docket No. OA08-53, Midwest Independent Transmission System Operator, Inc.

Docket No. ER08-194, et al., Midwest Independent Transmission System Operator, Inc.

Docket No. ER08-394, Midwest Independent Transmission System Operator, Inc.

Docket No. ER08-925, Midwest Independent Transmission System Operator, Inc.

Docket No. ER08-1074, Midwest Independent Transmission System Operator, Inc.

Docket No. ER08-1169, Midwest Independent Transmission System Operator, Inc.

Docket No. RM08-19, Mandatory Reliability Standards for the Calculation of Available Transfer, Capacity Benefit Margins, Transmission Reliability Margins, Total Transfer Capability, and Existing Transmission Commitments and Mandatory Reliability Standards for the Bulk Power System.

Docket No. AD09-10, National Action Plan on Demand Response.

Docket No. AD09-15, Version One Regional Reliability Standard for Resource and Demand Balancing.

Docket No. ER09-1049, Midwest Independent Transmission System Operator, Inc.

Docket No. ER09-1074, Midwest Independent Transmission System Operator, Inc.

Docket No. ER09-1431, Midwest Independent Transmission System Operator, Inc.

Docket No. AD10-5, RTO/ISO Performance Metrics.

Docket No. AD10-14, Reliability Standards Development and NERC and Regional Entity Enforcement.

Docket No. EC10-39, American Transmission Company, LLC.

Docket No. EL10-41, Tatanka Wind Power, LLC v. Montana-Dakota Utilities Company, a division of MDU Resources Group, Inc.

Docket No. EL10-45, Midwest Independent Transmission System Operator, Inc. v. PJM Interconnection, LLC.

Docket No. EL10-46, Midwest Independent Transmission System Operator, Inc. v. PJM Interconnection, LLC.

Docket No. EL10-60, PJM Interconnection, LLC v. Midwest Independent Transmission System Operator, Inc.

Docket No. ER10-8, Midwest Independent Transmission System Operator, Inc.

Docket Nos. ER10-9, 10-73, 10-74, Dairyland Power Cooperative v. Midwest Independent Transmission System Operator, Inc.

Docket Nos. ER10-209, EL10-12, and ER10-640, Commonwealth Edison Company and Commonwealth Edison Company of Indiana, Inc. v. Midwest Independent Transmission System Operator, Inc.

Docket No. ER10-1791, Midwest Independent Transmission System Operator, Inc. and the Midwest ISO Transmission Owners.

Docket No. ER10-2090, Midwest Independent Transmission System Operator, Inc.

Docket No. ER10-2283, Midwest Independent Transmission System Operator, Inc.

Docket No. ES10-31, Midwest Independent Transmission System Operator, Inc.

Docket No. PL10-4, Enforcement of Statutes, Orders, Rules, and Regulations.

Docket No. RM09-13, Time Error Correction Reliability Standard.

Docket No. RM10-9, Transmission Loading Relief Reliability Standard and Curtailment Priorities.

Docket No. RM10-11, Integration of Variable Energy Resources.

Docket No. RM10-13, Credit Reforms in Organized Wholesale Electric Markets.

Docket No. RM10-17 and EL09-68, Demand Response Compensation in Organized Wholesale Energy Markets.

Docket No. RM10-23 and Order No. 1000, Transmission Planning and Cost Allocation by Transmission Owning and Operating Public Utilities.

Docket No. ER11-15, Midwest Independent Transmission System Operator, Inc.

Docket No. ER11-138, Midwest Independent Transmission System Operator, Inc.

Docket No. ER11-1991, Midwest Independent Transmission System Operator, Inc.

Docket No. ER11-3225, Midwest Independent Transmission System Operator, Inc.

Docket No. ER11-2275, Midwest Independent Transmission System Operator, Inc.

Docket No. ER11-2700, Midwest Independent Transmission System Operator, Inc.

Docket No. ER11-3279, Midwest Independent Transmission System Operator, Inc.

Docket No. ER11-4081, Midwest Independent Transmission System Operator, Inc.

Docket No. ER11-3728, Midwest Independent Transmission System Operator, Inc.

Docket No. ER11-3572, Midwest Independent Transmission System Operator, Inc.

Docket No. ER11-4305, Midwest Independent Transmission System Operator, Inc.

Docket No. ER12-33, Midwest Independent Transmission System Operator, Inc.

Docket No. ER12-56, Midwest Independent Transmission System Operator, Inc.

Docket No. ER12-212, Midwest Independent Transmission System Operator, Inc.

Docket No. ER12-214, Midwest Independent Transmission System Operator, Inc.

Docket No. ER12-242, Midwest Independent Transmission System Operator, Inc.

Docket No. ER12-274, Midwest Independent Transmission System Operator, Inc.

Docket No. ER12-290, Midwest Independent Transmission System Operator, Inc.

Docket No. ER12-297, Midwest Independent Transmission System Operator, Inc.

Docket No. ER12-309, Midwest Independent Transmission System Operator, Inc.

Docket No. ER12-310, Midwest Independent Transmission System Operator, Inc.

Docket No. ER12-312, Midwest Independent Transmission System Operator, Inc.

Docket No. ER12-334, Midwest Independent Transmission System Operator, Inc.

Docket No. ER12-351, Midwest Independent Transmission System Operator, Inc.

Docket No. ER11-3415, Midwest Independent Transmission System Operator, Inc.

Docket No. ER12-427, Midwest Independent Transmission System Operator, Inc.

Docket No. ER12-450, Midwest Independent Transmission System Operator, Inc.

Docket No. ER12-451, Midwest Independent Transmission System Operator, Inc.

Docket No. ER12-480, Midwest Independent Transmission System Operator, Inc.

Docket No. ER12-517, Midwest Independent Transmission System Operator, Inc.

Docket No. OA08-53, Midwest Independent Transmission System Operator, Inc.

Docket No. EL12-11, Rail Splitter Wind Farm v. Ameren and MISO.

For more information, contact Patrick Clarey, Office of Energy Markets Regulation, Federal Energy Regulatory Commission at (317) 249-5937 or patrick.clarey@ferc.gov, or Christopher Miller, Office of Energy Markets Regulation, Federal Energy Regulatory Commission at (317) 249-5936 or christopher.miller@ferc.gov.

Dated: March 5, 2012.
Kimberly D. Bose,
Secretary.

[FR Doc. 2012-5844 Filed 3-9-12; 8:45 am]

BILLING CODE 6717-01-P